DEPARTMENT OF COMMERCE

National Oceanic and Atmospheric Administration

RIN 0648-XF483

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from the Commercial Fisheries Research Foundation and the University of Rhode Island contains all of the required information and warrants further consideration. The Exempted Fishing Permit would exempt participating commercial fishing vessels from Federal lobster escape vent, trap limit, and trap tag regulations and restrictions on egg-bearing and v-notched female and sublegal lobsters for American lobster and Jonah crab research in a designated Wind Energy Area.

Regulations under the Magnuson-Stevens Fishery Conservation and Management Act and the Atlantic Coastal Fisheries Cooperative Management Act require publication of this notification to provide interested parties the opportunity to comment on applications for proposed Exempted Fishing Permits.

DATES: Comments must be received on or before July 10, 2017.

ADDRESSES: You may submit written comments by any of the following methods:

• Email: NMFS.GAR.EFP@noaa.gov. Include in the subject line “Comments on CFRF/URI SNECVTS EFP.”

• Mail: John K. Bullard, Regional Administrator, NMFS, Greater Atlantic Regional Fisheries Office, 55 Great Republic Drive, Gloucester, MA 01930. Mark the outside of the envelope “Comments on CFRF/URI SNECVTS Exempted Fishing Permit.”

FOR FURTHER INFORMATION CONTACT: Cynthia Hanson, Fishery Management Specialist, (978) 281-9180, Cynthia.Hanson@noaa.gov.

SUPPLEMENTARY INFORMATION: The Commercial Fisheries Research Foundation (CFRF) and the University of Rhode Island (URI) submitted a complete application for an Exempted Fishing Permit (EFP) on May 25, 2017, to conduct commercial fishing activities that the regulations would otherwise restrict. The EFP would authorize four vessels (three active and one alternate) to conduct a cooperative ventless trap survey to determine distribution and habitat use of American lobster and Jonah crab in the Rhode Island/Massachusetts Wind Energy Area in Lobster Management Area (LMA) 2. The study is designed to better understand potential impacts of wind turbine construction on crustacean populations.

Funding for this study has been awarded under the Bureau of Ocean Energy Management Award (Grant #M13AC00009). CFRF and URI are requesting exemptions from Federal lobster regulations on:

1. Gear specifications at 50 CFR 697.21(c)(2) to allow for closed escape vents;

2. Trap limits for LMA 2, at § 697.19(b), to be exceeded by 80 additional traps per fishing vessel, for a total of 240 additional traps;

3. Trap tag requirements at § 697.19(j);

4. Minimum legal size possession restrictions at § 697.20(a)(4); and

5. Possession restrictions on berried and standard v-notch females at § 697.20(d) and (g).

If the EFP is approved, three active vessels will survey lobsters and Jonah crabs at 24 established sampling sites within the study area, with an alternate vessel available in case of mechanical issues. Each active vessel will fish 8 standard Atlantic large whale-compliant trawls with 10 traps (6 ventless, 4 standard) per trawl, for a total of 80 traps (48 ventless, 32 standard) per vessel. One trawl will be deployed at each of the fixed sample sites, and fished twice a month from July through November 2017, with a soak time of five days. There would never be more than 240 additional traps in the water at any time as a result of this project.

During sampling, biological information will be recorded for all lobsters and up to 10 Jonah crabs from each trap, and other bycatch species will also be enumerated, weighed, and measured. The possession exemptions are required to sample all catch. All species will be returned promptly to the water after sampling. No catch from this project will be landed for sale.

If approved, the applicant may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: June 20, 2017.
Emily H. Menashes,
Acting Deputy Director, Office of Sustainable Fisheries, National Marine Fisheries Service.

[FR Doc. 2017-13133 Filed 6-22-17; 8:45 am]

BILLING CODE 3510-22-P